FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

American International Shipping, 1811 West Kateela Avenue, Anaheim, CA 92804. Officers: Mahwood Ansari, President, (Qualifying Individual), Azita Fetanat, Vice President.

Freight Masters Overseas, Inc., 8177 NW 67 Street, Miami, FL 33166. Officers: Steve R. Etienne, Managing Director, (Qualifying Individual), Fremchan Rampersad, President.

ARC Air Logistics, Inc., 156-15 146th Avenue, Jamaica, NY 11434. Officers: Anthony Rimland, President, (Qualifying Individual), Robin Gallagher, Secretary.

Pacer Container Line, Inc., 6805 Perimeter Drive, Dublin, OH 43016. Officers: Kenneth R. Kish, Vice President, (Qualifying Individual), Jeffrey R. Brashares, President.

Airway Express & Hyundai Express, 801 Mahler Road, Burlingame, CA 94010. Dae Hyun Kang, Sole Proprietor.

Transeagle Cargo Logistics Corp., 2750 West 68 Street, Hialeah, FL 33016. Officers: Daniel Abreu, Vice President, (Qualifying Individual), Nuris Pichirilo, President.

Non-Vessel Operating Common Carrier and Ocean Freight Forwarder Transportation Intermediary Applicant:

ACS Logistics USA Inc., 7 Elkridge Way, Manalapan, NJ 07726. Officers: Snojana Pogosyan, Active Corporate Officer, (Qualifying Individual), Daniel Gleeson, President.

Real Logistics Inc., 10450 NW 31 Terrace, Doral, FL 33172. Officers: Elizabeth Alexander, Director, (Qualifying Individual), Luiz C. De Souza, President.

Ocean Freight Forwarder—Ocean Transportation Intermediary Applicants:

Norma's Cargo Solutions, LLC, 5663 SW 8th Street, Miami, FL 33134. Officer: Norma A. Pineiro, Managing Member, (Qualifying Individual).

Sunstar Forwarding, Inc., 445 Grayrock Drive, Crozet, VA 22932. Officer: Mark Klendworth, President, (Qualifying Individual).

GMW Freight Services USA Inc., 11437 Julius Avenue, Downey, CA 90241. Officers: John Choi, Secretary, (Qualifying Individual), Paul Leung, CFO.

Elzado Enterprises Incorporated, 14940 Grant Lane, Leisure City, FL 33033. Officers: Trudy Westcarr, CFO, (Qualifying Individual), Ernest Robinson, CFO.

Global Link Express Corp., 12711 NW 102 Ct., Hialeah Gardens, FL 33018. Officers: Maebys Rebozo, Secretary, (Qualifying Individual), Rosanne Castellanos, President.

Express Global Shipping, Inc., 10301 Democracy Lane, Suite 120, Fairfax, VA 22031. Officers: Chuck Lawrence, Secretary, (Qualifying Individual), Patrice M. Muya, President.

Dated: March 28, 2008.
Karen V. Gregory,
Assistant Secretary.

[FR Doc. E8-6798 Filed 4-1-08; 8:45 am]

BILLING CODE 6730-01-P